DEPARTMENT OF AGRICULTURE

Grain Inspection, Packers and Stockyards Administration

Opportunity To Comment on the Applicants for the North Central Texas Region, and the South Central California Region

AGENCY: Grain Inspection, Packers and Stockyards Administration, USDA.

ACTION: Notice and request for comments.

SUMMARY: GIPSA requests comments on the applicants for designation to provide official services in north central Texas, and the applicant for south central California. Enid Grain Inspection Company, Inc. (Enid) and Plainview Grain Inspection and Weighing Service, Inc. (Plainview) applied for counties in Texas, and California Agri Inspection Company, Ltd. (California Agri) applied for counties in California that were open for designation.

DATES: Comments must be postmarked or electronically dated on or before January 2, 2008.

ADDRESSES: We invite you to submit comments on these applicants. You may submit comments by any of the following methods:

• Hand Delivery or Courier: Deliver to Karen Guagliardo, Review Branch Chief, Compliance Division, GIPSA, USDA, Room 1647-S, 1400 Independence Avenue, SW., Washington, DC 20250.

• Fax: Send by facsimile transmission to (202) 690-2755, Attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This Action has been reviewed and determined not to be a rule or regulation as defined in Executive Order 12866 and Departmental Regulation 1512-1; therefore, the Executive Order and Departmental Regulation do not apply to this action.

Amarillo Grain Exchange, Inc., currently designated October 1, 2007 through September 30, 2010, asked GIPSA to remove the north central Texas region from its assigned geographical area. The north central Texas region is comprised of the following nineteen counties: Archer, Baylor, Callahan, Clay, Cottle, Fisher, Foard, Hardeman, Haskell, Jones, King, Knox, Nolan, Shackelford, Stonewall, Taylor, Throckmorton, Wichita, and Wilbarger.

In the September 4, 2007, Federal Register (72 FR 50654), GIPSA asked persons interested in providing official services in the north central Texas region to submit an application for designation. GIPSA also asked persons interested in providing official services for the area currently designated to Farwell Commodity and Grain Services, Inc. (Farwell Southwest) to submit an application for designation.

There were two applicants for the north central Texas area: Plainview and Enid; both currently designated official agencies. Plainview applied for part of the area open for designation: Cottle, Hardeman, King, Knox, Baylor, Archer, Stonewall, Haskell, Throckmorton, Fisher, Jones, Shackelford, Nolan, Taylor, Foard, and Callahan counties in Texas. Enid applied for part of the area open for designation: Clay, Wichita, and Wilbarger counties in Texas.

California Agri, a currently designated official agency, applied for designation in specific counties currently designated to Farwell Southwest. California Agri provides service in these California counties through an agreement with Farwell Southwest: Merced, Madera, Fresno, Kings, Tulare, Inyo, San Luis Obispo, Kern, Orange, Los Angeles, Ventura, Santa Barbara, and San Bernardino. Farwell Southwest applied for the remaining counties that are currently part of their designated area. GIPSA is not soliciting comments on the quality of service provided by Farwell Southwest through this notice as such comments were already requested through a previous notice published in the Federal Register on September 4, 2007 (72 FR 50654).

GIPSA is publishing this notice to provide interested persons the opportunity to present comments concerning the applicants. Commenters are encouraged to submit reasons and pertinent data for support or objection to the designation of the applicants. All comments must be submitted to the Compliance Division at the above address or at http://www.regulations.gov. Comments and other available information will be considered in making a final decision. GIPSA will publish notice of the final decision in the Federal Register, and GIPSA will send the applicants written notification of the decision.

Authority: 7 U.S.C. 71-87k.

James E. Link,
Administrator, Grain Inspection, Packers and Stockyards Administration.

[FR Doc. E7-23248 Filed 11-30-07; 8:45 am]

BILLING CODE 3410-KD-P